DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is publishing the names of 4 individuals and 2 entities whose property and interests in property are blocked pursuant to Executive Order 13224 of September 23, 2001, “Blocking Property and Prohibiting Transactions With Persons Who Commit, Threaten To Commit, or Support Terrorism.”

DATES: OFAC's actions described in this notice were effective on March 31, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On March 31, 2016, OFAC blocked the property and interests in property of the following 4 individuals and 2 entities pursuant to E.O. 13224, “Blocking Property and Prohibiting Transactions With Persons Who Commit, Threaten To Commit, or Support Terrorism”:

Individuals

1. MCLINTOCK, James Alexander (a.k.a. AL RASHIDI, Yaqoob Mansoor; a.k.a. AL-RASHIDI, Mohammad Yaqub; a.k.a. AL-RASHIDI, Yaqub Mansoor; a.k.a. MACCLINTOCK, Yakoob; a.k.a. MCLINTOCK, Yaqub; a.k.a. MCLINTOK, James Alexander; a.k.a. UR RASHIDI, Yaqoob Mansoor; a.k.a. “AL SCOTLANDI, Qari”; a.k.a. “AL-SKOTLANDI, Abu Abdullah”; a.k.a. “MANSOOR, Yaqub”; a.k.a. “MOHAMMED, Yaqub”; a.k.a. “YACOUB, Qari”; a.k.a. “YACUB, Qari”; a.k.a. “YAKUB, Qari”; a.k.a. “YAQOOB, Muhammad”; a.k.a. “YAQOOB, Qari”; a.k.a. “YAQUB, Muhammad Qari Maulana”; a.k.a. “YAQUB, Qari”), House 6B, Street 40,, Sector F-10/4, Islamabad, Pakistan; Peshawar, Pakistan; DOB 23 Mar 1964; alt. DOB 22 Mar 1964; POB Borehamwood, Hertfordshire, England, United Kingdom; alt. POB Dundee, Scotland, United Kingdom; nationality United Kingdom; alt. nationality Pakistan; Passport 706309249 (United Kingdom); alt. Passport 40526584 (United Kingdom) issued 10 Nov 2003; alt. Passport 039822418 (United Kingdom); alt. Passport AA1721192 (Pakistan); alt. Passport AA1721191 (Pakistan); National ID No. 6110159731197 (Pakistan); alt. National ID No. 8265866120651 (Pakistan) (individual) [SDGT] (Linked To: LASHKAR E-TAYYIBA; Linked To: TALIBAN; Linked To: AL QA'IDA).

2. SAFARASH, Muhammad Ijaz (a.k.a. ALI, Mohammad Ijaz Safarash; a.k.a. ALI, Mohammad Ijaz Safarish; a.k.a. ALI, Mohammed Ijaz Safarish; a.k.a. ALI, Mohd Ijaz Safarash; a.k.a. ALI, Mohd Ijaz Safrash; a.k.a. ALI, Muhammad Ijaz Safarash; a.k.a. ALI, Muhammed Ijaz Safarash; a.k.a. NASAR, Muhammad Ijaz; a.k.a. NASIR, Muhammad Ajaj; a.k.a. NASSARUDDIN, Muhammad Ajaj; a.k.a. SAFARASH, Mohammad Ijaz; a.k.a. SAFARISH, Mohammed Ejaz; a.k.a. “IJAZ, Muhammad”), Banimalik, Jeddah, Saudi Arabia; T 3814774 Park, Buraydah, Saudi Arabia; DOB 16 Jun 1976; alt. DOB 01 Jan 1976; POB Sialkot, Pakistan; nationality Pakistan; Passport CM9991171 (Pakistan); alt. Passport KF468635 (Pakistan); National ID No. 3460354961173 (Pakistan); alt. National ID No. 30576241062; Residency Number 2168561849 (Saudi Arabia) (individual) [SDGT] (Linked To: LASHKAR E-TAYYIBA).

3. NURISTANI, Abdul Aziz (a.k.a. AL-NURISTANI, 'Abd al-Aziz; a.k.a. AL-NURISTANI, Abdul Aziz; a.k.a. NOORISTANI, Abdul Aziz; a.k.a. NURISTANI, Abdul Aziz-e; a.k.a. “AL-'AZIZ, Abd”; a.k.a. “AZIZ, Abdul”; a.k.a. “AZIZ, Abdullah”), Takal region, Peshawar, Pakistan; DOB 01 Jan 1943 to 31 Dec 1943; POB Du Ab, Nuristan Province, Afghanistan; alt. POB Parun, Nuristan Province, Afghanistan; citizen Pakistan; Passport AK1814292 (Pakistan); alt. Passport AK1814291 (Pakistan) issued 22 Nov 2006 expires 21 Nov 2011; National ID No. 1730190144291 (Pakistan); alt. National ID No. 13743484497 (Pakistan) (individual) [SDGT] (Linked To: LASHKAR E-TAYYIBA; Linked To: AL QA'IDA; Linked To: TALIBAN).

4. QAMAR, Naveed (a.k.a. KHAN, Naveed Qamar; a.k.a. QAMAR, Naved; a.k.a. QAMAR, Navid; a.k.a. QAMAR, Nuwayd), Flat #R9, Nauman Grand Sati, Gulistan Johar, Block 17, Karachi Sharqi, Karachi Province, Sindh, Pakistan; DOB 27 Oct 1971; POB Bahawalnagar, Pakistan; alt. POB Lahore, Punjab Province, Pakistan; nationality Pakistan; Passport ZG4109521 (Pakistan) issued 07 Jun 2008 expires 06 Jun 2013; National ID No. 4220149109527 (Pakistan); alt. National ID No. 35171469484 (Pakistan) (individual) [SDGT] (Linked To: LASHKAR E-TAYYIBA).

Entities

1. AL RAHMAH WELFARE ORGANIZATION (a.k.a. AL RAHMAH WELFARE ORGANISATION; a.k.a. AL RAHMAN WELFARE ORGANISATION; a.k.a. ALRAHMAH WELFARE ORG; a.k.a. ALRAHMAH WELFARE ORGANISATION; a.k.a. AL-REHMAH WELFARE ORGANIZATION; a.k.a. AR RAHMA WELFARE TRUST; a.k.a. AR RAHMAH WELFARE ORGANIZATION; a.k.a. AR RAMMA WELFARE ORGANISATION; a.k.a. AR-RAHMA WELFARE ORGANISATION; a.k.a. AR-RAHMAH WELFARE ORGANISATION; a.k.a. AR-RAHMAN WELFARE ORGANIZATION; a.k.a. AR-RAHNA WELFARE ORGANISATION; a.k.a. SCOTPAK BUILD PVT LTD; a.k.a. “AL RAHMAN ORGANIZATION”; a.k.a. “AL RAHMAN WELFARE FOUNDATION”; a.k.a. “RWO”), House A, Street 40,, Sector F-10/4, Islamabad, Pakistan; RWO Head Office, House B, Street 40, Sector F-10/4, Islamabad, Pakistan; Jamiah Asma Lil Banaat, New Nadra Office, Lakki Marwat, Pakistan; Near the Mahdi Imami Bohamri Mosque, Sam Kano Moor, Peshawar, Pakistan; Peshawar, Pakistan; Registered Charity No. 2150/5/4129 (Pakistan); alt. Registered Charity No. 749/5/4129 (Pakistan) [SDGT] (Linked To: MCLINTOCK, James Alexander).

2. JAMIA ASARIYA MADRASSA (a.k.a. AL JAMATUL ASARYAH MADRASSA; a.k.a. AL JAMIA AL ASARIA; a.k.a. AL JAMIAH AL ASARIA MADRASSA; a.k.a. AL-JAMAHATUL ASREYA MADRASSA; a.k.a. AL-JAMIA AL-ASARIA MADRASSA; a.k.a. JAMA'AT UL-SARIA MOSQUE; a.k.a. JAMAH-YE SARYA MADRASSA; a.k.a. JAMEAT-UL ASRYA MADRASSA; a.k.a. JAMEHA-E-AL AHSERYA MADRASSA; a.k.a. JAMIA AL-ASSARIA MADRASSA; a.k.a. JAMIA ASRIYA MADRASSA; a.k.a. JAMIA ASSARIA MADRASSA; a.k.a. JAMIAE HAZAREA MADRASSA; a.k.a. JAMIYYA ASRIYYA; a.k.a. MADRASSA JAMIA AL-ASRIA; f.k.a. MADRASSA TALIM QURAN USONA), Inqilab Road, Village Chamkani, Peshawar, Khyber Pakhtunkhwa 25001, Pakistan [SDGT] (Linked To: NURISTANI, Abdul Aziz; Linked To: LASHKAR E-TAYYIBA).

Dated: March 31, 2016.
Andrea Gacki,
Acting Director, Office of Foreign Assets Control.

[FR Doc. 2016-07737 Filed 4-4-16; 8:45 am]

BILLING CODE 4810-AL-P